FEDERAL COMMUNICATIONS COMMISSION

Notice of Public Information Collection(s) Being Submitted to OMB for Review and Approval

June 29, 2004.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 13, 2004. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to Leslie.Smith@fcc.gov or Kristy L. LaLonde, Office of Management and Budget (OMB), Room 10236 NEOB, Washington, DC 20503, (202) 395-3087 or via the Internet at Kristy_L._LaLonde@omb.eop.gov.

FOR FURTHER INFORMATION CONTACT: For additional information or copy of the information collection(s) contact Les Smith at (202) 418-0217 or via the Internet at Leslie.Smith@fcc.gov.

SUPPLEMENTARY INFORMATION: OMB Control Number: 3060-0967.

Title: Section 79.2, Accessibility of Programming Providing Emergency Information.

Form Number: N/A.

Type of Review: Revision of a currently approved collection.

Respondents: Business or other for-profit entities; Individuals or households; Not-for-profit institutions; and State, local, or tribal governments.

Number of Respondents: 100.

Estimated Time per Response: 1 to 2 hours.

Frequency of Response: On occasion reporting requirements; Third party disclosure.

Total Annual Burden: 210 hours.

Total Annual Cost: $18,000.

Privacy Impact Assessment: Yes.

Needs and Uses: 47 CFR 79.2 of the Commission's rules are designed to ensure that persons with hearing and visual disabilities have access to the critical details of emergency information. The Commission adopted the rules to assist persons with hearing disabilities on April 14, 2000, in the Second Report and Order in MM Docket No. 95-176. The Commission modified the rules to assist persons with visual disabilities on July 21, 2000, in the Report and Order in MM Docket No. 99-339. Because the Commission adopted its rules for persons with different disabilities at different times, it has previously provided separate Paperwork Reduction Act submissions for them as follows: Rules for persons with hearing disabilities are associated with OMB Control No. 3060-0945; and rules for persons with visual disabilities are associated with OMB Control No. 3060-0967. Because both sets of rules, however, make use of the same complaint procedure, which triggers the need for the submission, the Commission now consolidates its submission. 47 CFR 79.2(c) requires that complaints be transmitted to the Commission, and that each complaint include following: The name of the video programming distributor at issue; the date and time of the omission of the emergency information; and the type of emergency. The Commission then notifies the video programming distributor, which must reply within 30 days. This revised information collection also includes a Privacy Impact Assessment to comply with OMB Memorandum M-03-22 (September 26, 2003).

OMB Approval Number: 3060-0698.

Title: Amendment of the Commission's Rules to Establish a Radio Astronomy Coordination Zone in Puerto Rico, ET Docket No. 96-2.

Form Number: N/A.

Type of Review: Extension of a currently approved collection.

Respondents: Businesses or other for-profit entities; Not for profit institutions; and State, local, or tribal government.

Number of Respondents: 515.

Estimated Time per Response: 35 minutes (avg.) (multiple responses annually).

Frequency of Response: On occasion reporting requirements; Third party disclosure.

Total Annual Burden: 300 hours.

Total Annual Costs: None.

Privacy Impact Assessment: No Impact(s).

Needs and Uses: On October 15, 1997, the FCC released a Report and Order, ET Docket No. 96-2, RM-8165, FCC 97-347, that established a Coordination Zone for new and modified radio facilities in various communications services that cover the islands of Puerto Rico, Desecheo, Mona, Vieques, and Culebra within the Commonwealth of Puerto Rico. The coordination zone and notification procedures enable the Arecibo Radio Astronomy Observatory to receive information needed to assess whether an applicant's proposed operations will cause harmful interference to the Arecibo Observatory's operations, which also promotes efficient resolution of coordination problems between the applicants and the Arecibo Observatory.

OMB Control Number: 3060-0029.

Title: Application for TV Broadcast Station License, FCC Form 302-TV.

Form Number: FCC 302-TV.

Type of Review: Revision of currently approved collection.

Respondents: Business or other for-profit entities; Not-for-profit institutions.

Number of Respondents: 200.

Estimated Hours per Response: 1 to 2 hours.

Frequency of Response: On occasion reporting requirements.

Total Annual Burden: 500.

Total Annual Cost: $203,000.

Privacy Impact Assessment: No impact(s).

Needs and Uses: Licensees and permittees of TV broadcast stations are required to file FCC Form 302-TV to obtain a new or modified station license, and/or to notify the Commission of certain changes in the licensed facilities of these stations. The Commission revised the FCC 302-TV in June 2001 to facilitate electronic filing by replacing narrative exhibits with the use of certifications and an engineering technical box. The Commission also deleted and narrowed overly burdensome questions. The FCC 302-TV has been supplemented with detailed instructions to explain processing standards and rule interpretations to help ensure that applicants certify accurately. These changes streamlined the Commission's processing of FCC 302-TV applications. FCC staff use the data to confirm that the station has been built to terms specified in the outstanding construction permit, and to update FCC station files. Data are then extracted from FCC 302-TV for inclusion in the subsequent license to operate the station.

Federal Communications Commission.
Marlene H. Dortch,
Secretary.

[FR Doc. 04-15863 Filed 7-13-04; 8:45 am]

BILLING CODE 6712-01-P